SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

OMB, Office of Management and Budget, Attn: Desk Officer for SSA, Fax: 202-395-6974, e-mail address: OIRA_Submission@omb.eop.gov.

SSA, Social Security Administration, DCBFM, Attn: Reports Clearance Officer, 1333 Annex Building, 6401 Security Blvd., Baltimore, MD 21235, Fax: 410-965-6400, e-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. National 800 Number—Claims Status—20 CFR 401.45—0960-NEW. SSA has established a process for authenticating the information of individuals who use the automated telephone services or speak to an agent to request information from SSA records. Prior to SSA responding to requests for personal information through the automated telephone services, we must authenticate the requester's information by obtaining the appropriate identification elements. This automated telephone service will provide callers with status of a Social Security claim which they have filed. All information provided will then be compared to the information contained in our records so that the appropriate claim is accessed and the respondent is given the status of that claim. Respondents are current Social Security beneficiaries.

Type of Request: Request for a new information collection.

Number of Respondents: 704,422.

Frequency of Response: 1.

Average Burden per Response: 1 minute.

Estimated Annual Burden: 11,740 hours.

2. Function Report-Child: Birth to 1st Birthday (SSA-3375), Age 1 to 3rd Birthday (SSA-3376), Age 3 to 6th Birthday (SSA-3377), Age 6 to 12th Birthday (SSA-3378), and Age 12 to 18th Birthday (SSA-3379)—20 CFR 416.912—0960-0542. State Agency adjudicative teams use the information gathered by these forms in combination with other medical function evidence to form a complete picture of a child's ability to function. This information is used to help determine if a child is disabled, especially in cases in which disability cannot be found on medical grounds alone. The respondents are applicants for Title XVI childhood disability benefits and their caregivers.

Type of Request: Extension of an OMB-approved information collection.

Number of Respondents: 550,000.

Frequency of Response: 1.

Average Burden per Response: 20 minutes.

Estimated Annual Burden: 183,333 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Notice Regarding Substitution of Party On Death of Claimant—Reconsideration of Disability Cessation—20 CFR 404.917-404.921 and 416.1407-416.1421—0960-0351. Form SSA-770 is used when a claimant dies before a determination is made on that person's request for reconsideration on his/her disability cessation. SSA seeks a qualified substitute party to pursue the appeal. If the qualified substitute party is located, the SSA-770 is used to collect information regarding whether to pursue or withdraw the reconsideration request. The information collected on the SSA-770 forms the basis of the decision to continue or discontinue the appeals process. Respondents are substitute applicants who are pursuing a reconsideration request for a deceased claimant.

Type of Request: Extension of an OMB-approved information collection.

Number of Respondents: 1,200.

Frequency of Response: 1.

Average Burden Per Response: 5 minutes.

Estimated Annual Burden: 100 hours.

2. State Agency Report of Obligations for SSA Disability Programs (SSA-4513); Time Report of Personnel Services for Disability Determination Services (SSA-4514); State Agency Schedule of Equipment Purchased for SSA Disability Programs (SSA-871)—20 CFR 404.1626—0960-0421 (Correction to Burden Data). Forms SSA-4513, SSA-4514 and SSA-871 are used to collect data necessary for detailed analysis and evaluation of costs incurred by State Disability Determination Services (DDS) in making determinations of disability for SSA. The data are also utilized in determining funding levels for each DDS. Respondents are State DDSs.

Type of Request: Extension of an OMB-approved information collection.

Number of Respondents: 52.

Estimated Annual Burden: 756 hours.

| Respondents | Frequency of response | Average burden per response (minutes) | Estimated annual burden (hours)
SSA-4513 & Addendum | 52 | 4 | 90 | 312
SSA-4514 | 52 | 4 | 90 | 312
SSA-871 | 52 | 4 | 30 | 104
Totals | 52 |  |  | 728

Please note: We are correcting the number of respondents to this collection. In our notice published March 23, 2007 at 72 FR 13851 we initially state there are 54 State DDS's, whereas there are only 52.

3. Subpoena-Disability Hearing—20 CFR 404.916(b)(1) & 416.1416(b)(1)—0960-0428. Form SSA-1272-U4 is completed by State and Federal disability hearing officers to subpoena evidence or testimony in connection with hearings required by the Social Security Act. Actual issuance of the subpoena will be done by that appropriate delegated SSA official. Respondents are disability hearing officers.

Type of Request: Extension of an OMB-approved information collection.

Number of Respondents: 36.

Frequency of Response: 1.

Average Burden per Response: 30 minutes.

Estimated Annual Burden: 18 hours.

4. Summary of Evidence—20 CFR 404.913(b), 404.914(a), 416.1707, 416.1313(b), 416.1414(a)—0960-0430. Form SSA-887 is completed by a Disability Hearing Officer (DHO) from the claimant's State Disability Determination Service (DDS). The DHO summarizes all medical and vocational reports that were used to make the no-disability determination. This form, which is used to prepare for and conduct the disability hearing, is also made available to claimants so that they are aware of the basis for the no-disability decision and they can prepare for the reconsideration accordingly. Respondents are Disability Hearing Officers.

Type of Request: Extension of an OMB-approved information collection.

Number of Respondents: 49,000.

Frequency of Response: 1.

Average Burden per Response: 15 minutes.

Estimated Annual Burden: 12,250 hours.

5. Information About Joint Checking/Savings Accounts—20 CFR 416.1201(b), 416.1208—0960-0461. The SSA-2574 is used to collect information when a Supplemental Security Income (SSI) applicant/recipient objects to the assumption that he/she owns all or part of the funds in a joint checking or savings account which bears his or her name. Information about the account is collected from both the SSI applicant/recipient and other accountholder(s). These statements regarding ownership are required to determine whether the account is a resource of the SSI claimant. The amount of resources a person owns is one of the factors considered in determining eligibility for SSI. Respondents are applicants and recipients of SSI and individuals who are joint owners of financial accounts with SSI applicants/recipients.

Type of Request: Extension of an OMB-approved information collection.

Number of Respondents: 200,000.

Frequency of Response: 1.

Average Burden per Response: 7 minutes.

Estimated Annual Burden: 23,333 hours.

6. Beneficiary Recontact Form—20 CFR 404.703, 404.705—0960-0502. SSA must ensure that eligibility for benefits continues after entitlement. Studies show that mothers/fathers who marry fail to report the marriage and or the fact that they no longer have a child entitled in their care. SSA uses the SSA-1588-OCR-SM to ask mothers/fathers about their marital status and children in care to detect overpayments and avoid continuing payment to those no longer entitled. Respondents are recipients of survivor mother/father Social Security benefits.

Type of Request: Extension of an OMB-approved information collection.

Number of Respondents: 133,400.

Frequency of Response: 1.

Average Burden per Response: 5 minutes.

Estimated Annual Burden: 11,117 hours.

7. Earnings Record Information—20 CFR 404.801-404.803 and 404.821-404.822—0960-0505. The information collected by form SSA-L3231-C1 is used to ensure that the proper person is credited for working when earnings are reported for a minor under the age of 7 years. The respondents are businesses reporting earnings for children under age 7.

Type of Information Collection: Extension of an OMB-approved information collection.

Number of Respondents: 20,000.

Frequency of Response: 1.

Average Burden per Response: 10 minutes.

Estimated Annual Burden: 3,333 hours.

8. Wage Reports and Pension Information—20 CFR 422.122(b)—0960-0547. The information collected through 20 CFR 422.122(b) is used by SSA to identify the requestor of pension plan information and to confirm the individual is entitled to the data SSA provides. Respondents are requestors of pension plan information.

Type of Request: Extension of an OMB-approved information collection.

Number of Respondents: 600.

Frequency of Response: 1.

Average Burden per Response: 30 minutes.

Estimated Annual Burden: 300 hours.

9. Youth Transition Process Demonstration Evaluation Data Collection—0960-0687.

Background

The Youth Transition Demonstration YTD projects are intended to help young people with disabilities make the transition from school to work. By waiving certain disability program rules and offering services to youth who are either receiving disability benefits or at risk of receiving them, these projects are expected to encourage youth to work and/or continue their education. YTD projects will be fully implemented in 10 sites across the country. The evaluation will produce empirical evidence on the impacts of the waivers and project services not only on educational attainment, employment, earnings, and receipt of benefits by youth with disabilities but also on the Social Security Trust Fund and federal income tax revenues. This type of project is authorized by sections 1110 and 234 of the Social Security Act.

Project Description

Given the importance of estimating YTD impacts as accurately as possible, the evaluation will be conducted using rigorous analytic methods based on the random assignment of youth to a treatment or control group. Several data collection efforts are planned. These include (1) baseline interviews with youth and their parents or guardians prior to random assignment; (2) follow-up interviews at 12 and 36 months after random assignment; (3) interviews and/or roundtable discussions with local program administrators, program supervisors, and service delivery staff; and (4) focus groups of youth, their parents, and service providers. The respondents will be youth with disabilities who have enrolled in the project, their parents or guardians, program staff, and service providers.

Type of Request: Revision of an existing OMB Clearance.

Data collection year | Collection | Number of respondents | Responses per respondent | Average burden per response (hours) | Total response burden (hours)
2007 | Baseline | 962 | 1 | 0.55 | 529
| Informed Consent | 962 | 1 | 0.83 | 80
| 12 month follow-up ¹ | 437 | 1 | 0.83 | 363
| Focus group | 140 | 1 | 1.5 | 210
| Program staff/service provider | 32 | 1 | 1 | 32
Total 2007 |  |  |  |  | 1,214
¹ We conduct follow-up interviews only for those baseline respondents who sign consent forms.

10. Request for Program Consultation—20 CFR 404.1601-1661—0960-New. The Disability Determination Services (DDS) offices are staffed by State employees who perform disability determinations for applicants for Social Security disability benefits under Title II and Title XVI of the Social Security Act. SSA's federal regional quality assurance office has the authority to review DDS determinations, to assess errors, and to return cases for corrective action by the DDS.

The information collected on the Request for Program Consultation (RPC) will be used by the DDS's that request a review of the regional quality assurance evaluations. The DDS's use the RPC to present their rationale that supports their determinations. The information collected includes a short rationale and policy citations supporting their rebuttal. The RPC team will use the information to reassess their initial determination. The respondents are DDS's who request a review of the regional quality assurance determination.

Type of Request: Request for a new information collection.

Number of Respondents: 4,500.

Frequency of Response: 1.

Average Burden per Response: 50 minutes.

Estimated Annual Burden: 3,750 hours.

11. Request to Decision Review Board To Vacate the Administrative Law Judge Dismissal of Hearing—20 CFR 405.427—0960-NEW. The information collected on Form SSA-525 will be used by Social Security Administration's Decision Review Board (Board) when a hearing on a claim for Title II or Title XVI disability payments is dismissed and the claimant requests that the dismissal be vacated. The Board will use this information to (1) establish the continued involvement of the requester in his or her claim; (2) consider the requester's arguments for vacating the dismissal; and (3) vacate or decline to vacate the administrative law judge's dismissal order. The respondents are Social Security disability or Supplemental Security Income (SSI) claimants who are requesting that the dismissal be vacated.

Type of Request: Request for a new information collection.

Number of Respondents: 30,000.

Frequency of Response: 1.

Average Burden Per Response: 10 minutes.

Estimated Annual Burden: 5,000 hours.

12. Medical History and Disability Report, Disabled Child—20 CFR 416.912—0960-0577. The Social Security Act requires claimants to furnish medical and other evidence to prove they are disabled. The form SSA-3820 is used to obtain various types of information about a child's condition, his/her treating sources and/or other medical sources of evidence. The information collected on the SSA-3820 is needed for the determination of disability by the State DDSs. The respondents are applicants for Title XVI child disability benefits.

Type of Request: Revision to an OMB-approved information collection.

Collection format | Number of respondents | Frequency of responses | Average burden per responses | Estimated annual burden (hour)
SSA-3820 (Paper Form) | 500 | 1 | 1 hour | 500
Electronic Disability Collection System (EDCS) | 422,000 | 1 | 34 minutes | 239,133
i3820 (Internet) | 39,500 | 1 | 2 hours | 79,000
Totals | 462,000 |  |  | 318,633

13. Social Security Disability Report—20 CFR 404.1512 & 416.912—0960-0579. The Social Security Administration requires applicants for disability payments to furnish medical, work history, and other evidence or information indicating they have an impairment which is disabling. This information is collected by form SSA-3368, the Adult Disability Report, and is used by State DDS's to make disability determinations for SSA.

The respondents are applicants for Title II and Title XVI disability benefits. These applicants may complete the form using any of the following modalities: (1) The traditional paper form; (2) an interview with an SSA field office representative, using the EDCS; (3) the Internet (i3368); and (4) a modality, the i3368-PRO, an Internet form designed to be completed by representatives of applicants for disability payments. The latter three versions of the form collect the same information as the paper form, but may be formatted differently and include certain enhancements (ex: self-help screens) to guide the claimant or interviewer through the application process.

Type of Request: Revision to an OMB-approved information collection.

Collection format | Number of respondents | Frequency of response | Average burden per response (hours) | Estimated annual burden (hours)
SSA-3368 (Paper version) | 9,364 | 1 | 1 | 9,364
Field office/EDCS | 3,138,920 | 1 | 1 | 3,138,920
i3368 (Internet version; Hour burden varies from 1½-3 hours, depending on information required) | 101,135 | 1 | 2½ | 252,837
i3368-PRO | 101,135 | 1 | 1 ½ | 151,702
Totals | 3,350,554 |  |  | 3,552,823

14. Certification of Contents of Document(s) or Record(s)—20 CFR 404.715ff—0960-0689. SSA must secure evidence necessary for individuals to establish rights to benefits. Some of the types of evidence needed are evidence of age relationship, citizenship, marriage, death, and military service. Form SSA-704 allows SSA employees, state record custodians, and other custodians of evidentiary documents to record information from documents and records to establish these types of evidence. SSA employees use this form but it is also used by state record custodians and other custodians of evidentiary documents.

Type of Request: Extension of an OMB-approved information collection.

Number of Respondents: 4,800.

Average Burden per Response: 10 minutes.

Estimated Annual Burden: 800.

15. Waiver of Your Right to Personal Appearance before an Administrative Law Judge—20 CFR 404.948(b)(l)(i) and 416.1448(b)(l)(i)—0960-0284. Each claimant has a statutory right to appear in person (or through a representative) and present evidence about his/her claim at a hearing before an Administrative Law Judge (ALJ). If a claimant wishes to waive his/her statutory right to appear before an ALJ, he/she must complete a written request. The claimant may use Form HA-4608 for this request. The information collected is used to document an individual's claim to show that an oral hearing is not preferred in the appellate process. The respondents are applicants for Title II benefits and Title XVI payments who request a hearing.

Number of Respondents: 12,000.

Frequency of Response: 1.

Average Burden per Response: 2 minutes.

Estimated Annual Burden: 400 hours.

Dated: June 7, 2007.
Elizabeth A. Davidson,
Reports Clearance Officer, Social Security Administration.

[FR Doc. E7-11383 Filed 6-12-07; 8:45 am]

BILLING CODE 4191-02-P